DEPARTMENT OF AGRICULTURE

Food Safety and Inspection Service

[Docket No. FSIS-2011-0011]

Notice of Request for a New Information Collection (Food Safety Education Campaign—Tracking Survey)

AGENCY: Food Safety and Inspection Service, USDA.

ACTION: Notice and request for comments.

SUMMARY: In accordance with the Paperwork Reduction Act of 1995 and the Office of Management and Budget (OMB) regulations, the Food Safety and Inspection Service (FSIS) is announcing its intention to request a new information collection for a tracking survey associated with the upcoming Food Safety Education Campaign.

FSIS is giving the public 30 days to respond instead of the normal 60 days because of the need to expeditiously conduct the tracking survey so that the Food Safety Education Campaign will be able to begin in July as planned.

DATES: Comments on this notice must be received on or before June 17, 2011.

ADDRESSES: FSIS invites interested persons to submit comments on this notice. Comments may be submitted by either of the following methods:

• Federal eRulemaking Portal: This Web site provides the ability to type short comments directly into the comment field on this Web page or attach a file for lengthier comments. Go to http://www.regulations.gov. Follow the on-line instructions at that site for submitting comments.

• Mail, including floppy disks or CD-ROMs, and hand- or courier-delivered items: Send to Docket Clerk, U.S. Department of Agriculture, Food Safety and Inspection Service, Room 2-2175, George Washington Carver Center, 5601 Sunnyside Avenue, Mailstop 5272, Beltsville, MD 20705-5272.

Instructions: All items submitted by mail or electronic mail must include the Agency name and docket number FSIS-2011-0011. Comments received in response to this docket will be made available for public inspection and posted without change, including any personal information, to http://www.regulations.gov.

Docket: For access to background documents or comments received, go to the FSIS Docket Room at the address listed above between 8:30 a.m. and 4:30 p.m., Monday through Friday.

FOR FURTHER INFORMATION CONTACT: John O'Connell, Paperwork Reduction Act Coordinator, Food Safety and Inspection Service, USDA, 1400 Independence Avenue, SW., Room 6065, South Building, Washington, DC 20250, (202) 720-0345.

SUPPLEMENTARY INFORMATION: Title: Food Safety Education Campaign—Tracking Survey.

Type of Request: New information collection.

Abstract: FSIS has been delegated the authority to exercise the functions of the Secretary as specified in the Federal Meat Inspection Act (FMIA) (21 U.S.C. 601, et seq.), the Poultry Products Inspection Act (PPIA) (21 U.S.C. 451, et seq.), and the Egg Products Inspection Act (EPIA) (21 U.S.C., et seq.). FSIS protects the public by verifying that meat, poultry, and egg products are safe, wholesome, not adulterated, and correctly labeled and packaged. FSIS, in partnership with the Ad Council, the Food and Drug Administration, and the Centers for Disease Control and Prevention, has developed a new national public service advertising campaign to educate the public about the importance of safe food handling and how to reduce the risks associated with foodborne illness. FSIS is seeking approval of an information collection to help evaluate the impact of the campaign. The collection will take the form of a survey of members of the target audience, and will help gauge awareness of the advertising, attitudes regarding safe food preparation, and self-reported prevention behaviors. The survey will be fielded once prior to launch of materials, and then again 9-12 months following launch to monitor any shifts over time.

After receiving a briefing on foodborne illness and USDA priorities for the public education campaign, the Ad Council and JWT conducted an audit of existing research and statistics surrounding the issue and prevention behaviors. Following this review, the Ad Council and JWT conducted consumer research to better understand perceptions of foodborne illness and safe food handling behaviors held by the target audience. These research sessions were conducted with OMB approval in November 2010. Next, the Ad Council and JWT developed a communications strategy based on research findings that clearly articulates the proposed approach to communications.

JWT then developed creative concepts—scripts, graphical treatments, etc.—that stem directly from the communications strategy. These concepts were qualitatively tested with members of the target audience in March. Finally, before the release of the advertising campaign in July, the Ad Council, on behalf of FSIS, will conduct a tracking study to monitor awareness of the campaign as well as any changes in perceptions of foodborne illness and reported safe food handling behaviors.

The campaign targets parents, ages 20 to 40, who are caregivers for children between the ages of 4 and 12. Parents have been identified as the target audience because they are most likely to be preparing food for themselves and others, and they have an incentive to listen to food safety messages and adopt or change their behaviors as a result.

The survey will be administered using a national random digit dial phone methodology in both English and Spanish. Each respondent will answer questions about their attitudes about food safety, their awareness of the risks of foodborne illness, their own efficacy with regard to preventing foodborne illness, and their own use of safe food-handling practices. The public service announcements (PSAs) will also be described to respondents in order to gauge recognition of the ads in market.

Once the post-wave survey is fielded 9-12 months after the benchmark survey, the Ad Council will compare results to identify any shifts in attitudes, awareness, or behaviors that occurred while the PSAs were in market.

FSIS has made the following estimates based upon an information collection assessment:

Estimate of Burden: FSIS estimates that it will take respondents an average of 15 minutes per year and non-respondents an average of 2 minutes per year to respond.

Respondents: Consumers.

Estimated No. of Respondents: 7,200.

Estimated No. of Annual Responses per Respondent: 1.

Estimated Total Annual Burden on Respondents: 500 hours.

Copies of this information collection assessment can be obtained from John O'Connell, Paperwork Reduction Act Coordinator, Food Safety and Inspection Service, USDA, 1400 Independence, SW., Room 6065, South Building, Washington, DC 20250, (202) 720-0345.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

USDA Nondiscrimination Statement

The United States. Department of Agriculture (USDA) prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/News_&_Events/Email_Subscription/. Options range from recalls to export information to regulations, directives and notices. Customers can add or delete subscriptions themselves, and have the option to password protect their accounts.

Done at Washington, DC, on: May 16, 2011.
Alfred V. Almanza,
Administrator.

[FR Doc. 2011-12304 Filed 5-16-11; 4:15 pm]

BILLING CODE 3410-DM-P